DEPARTMENT OF AGRICULTURE

Forest Service

Information Collection; National Woodland Owner Survey

AGENCY: Forest Service, USDA.

ACTION: Notice; request for comment.

SUMMARY: In accordance with the Paperwork Reduction Act of 1995, the Forest Service is seeking comments from all interested individuals and organizations on the renewal of the National Woodland Owner Survey information collection.

DATES: Comments must be received in writing on or before May 10, 2021 to be assured of consideration. Comments received after that date will be considered to the extent practicable.

ADDRESSES: Comments concerning this notice should be addressed to Brett Butler, Research Forester, USDA Forest Service, 160 Holdsworth Way, Amherst, MA 01003. Comments may also be submitted by email to: brett.butler2@usda.gov. Comments submitted in response to this notice may be made available to the public through relevant websites and upon request. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

The public may request an electronic copy of the draft supporting statement and/or any comments received. Requests should be emailed to brett.butler2@usda.gov.

FOR FURTHER INFORMATION CONTACT: Brett Butler, Research Forester, Northern Research Station, 413-545-1387. Individuals who use telecommunication devices for the hearing-impaired (TDD) may call the Federal Information Relay Service (FIRS) at 1-800-877-8339 twenty-four hours a day, every day of the year, including holidays.

SUPPLEMENTARY INFORMATION:

Title: National Woodland Owner Survey.

OMB Number: 0596-0078.

Type of Request: Information Collection Renewal.

Abstract: There are an estimated 823 million acres of forestland across the United States. Of this forestland, over half is owned by millions of corporations, families, individuals, and other private groups. Understanding the attitudes and behaviors of these private ownerships is critical for understanding the current and future state of the nation's forests. The Forest Service conducts the National Woodland Owner Survey (NWOS) to increase our understanding of:

• Who owns and manages the forestland of the United States;

• Why they own/manage it;

• How they have used it; and

• How they intend to use it.

This information is used by policy analysts, foresters, educators, and researchers to facilitate planning and implementation of forest policies and programs.

The Forest Service's direction and authority to conduct the NWOS is from the Resources Planning Act of 1974 and the Forest and Rangeland Renewable Resources Research Act of 1978. These acts assign responsibility for inventory and assessment of forest and related renewable resources to the Secretary of Agriculture, and these responsibilities are subsequently delegated to the Forest Service. Additionally, the importance of an ownership survey in this inventory and assessment process has been highlighted in the 2014 Farm Bill, the Agricultural Research, Extension, and Education Reform Act of 1998, and the recommendations of the 1998 Second Blue Ribbon Panel on the Forest Inventory and Analysis program.

Previous iterations of the NWOS were conducted in 1978, 1993, 2002-2006, 2011-2013, and 2017-2018. Data collection for the current iteration is planned for 2019-2023. Initial approval for the current data collection cycle of the NWOS expires on October 31, 2021. If renewed, the current NWOS data collection cycle will be completed in 2023.

Information will be collected related to:

• The characteristics of the land holdings;

• Attitudes and perceptions of the owners and managers;

• Resource uses and management activities; and

• Where applicable, landowner demographics.

Separate survey instruments are being developed for rural and urban landowners. For rural landowners, a subset of ownerships will be sent survey instruments addressing the following topics, in addition to the core questions from the base survey instrument:

• Wildfires;

• Invasive species;

• Climate change;

• Land owner values; and

• Decision making.

The NWOS provides widely cited benchmarks for the number, extent, and characteristics of owners of forestland in the United States. These results have been used to assess the sustainability of forest resources at national, regional, and state levels; to implement and assess forest-land owner assistance programs; and to answer a variety of questions with topics ranging from forestland fragmentation to the economics of timber production. This is the only effort to collect in-depth information about owners of forestland at the national scale. It provides longitudinal data to track ownership trends and allows for comparisons across regions of the country.

The respondents will be a statistically selected group of individuals, families, partnerships, corporations, nonprofit organizations, and other private groups that own forestland in the United States. A well distributed, random set of sampling points has been established across the country. At each point, remotely sensed data, such as aerial photographs, will be used to identify forested points. For the forested points, public records will be used to identify the owners of record—the names and addresses of the landowners we will contact. The target number of respondents per state is 250 over the full, 2019-2023, data collection cycle.

The NWOS will utilize a mixed-mode survey technique involving cognitive interviews, focus groups, self-administered questionnaires, and telephone interviews. Cognitive interviews will be used to test specific questions. Focus groups will be used to provide more in-depth understanding of the responses and to explore new areas of inquiry.

Implementation of the self-administered survey will involve up to four contacts. First, a pre-notice postcard will be sent to all potential respondents describing this information collection and why the information is being collected. Second, a questionnaire with a cover letter and pre-paid return envelope will be sent to the potential respondents. The cover letter will reiterate the purpose of this information collection and provide respondents with all legally required information. Third, a reminder will be mailed to thank respondents and encourage non-respondents to reply. Those who have yet to respond will be sent a new questionnaire, cover letter, and pre-paid return envelope. The primary survey instrument will be paper forms with the option for completing the survey electronically online. Telephone interviews will be used for follow-up with non-respondents.

Forest Service researchers will coordinate all components of this information collection. Forest Service personnel with assistance provided by cooperators at the Family Forest Research Center located at the University of Massachusetts Amherst will conduct the mail portion of the survey, cognitive interviews, and focus groups. The U.S. Department of Agriculture, National Agricultural Statistics Service will conduct the telephone follow-ups. Data will be compiled and edited by Forest Service and Family Forest Research Center personnel. Forest Service researchers and cooperators will analyze the collected data. National, regional, and state-level results will be publicly available and electronically distributed.

This information collection will generate scientifically-based, statistically-reliable, up-to-date information about the owners of forestland in the United States. Results of these efforts will provide more reliable information on this important and dynamic segment of the United States population, thus facilitating more complete assessments of the country's forestland resources and improved planning and implementation of forestry programs on state, regional, and national levels.

Affected Public: Individuals and Households and the Private Sector (Businesses and Non-Profit Organizations).

Estimate of Burden per Response: 25 minutes.

Estimated Annual Number of Respondents: 3,558.

Estimated Annual Number of Responses per Respondent: 1.

Estimated Total Annual Burden on Respondents (hours): 2,118.

Comment Is Invited

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission to the Office of Management and Budget for approval.

Alexander L. Friend,
Deputy Chief, Research & Development.

[FR Doc. 2021-04788 Filed 3-8-21; 8:45 am]

BILLING CODE 3411-15-P